Proclamation 9780 of August 31, 2018

Labor Day, 2018

By the President of the United States of America

A Proclamation

On Labor Day, we celebrate the American worker: the bulwark of our national prosperity and the cornerstone of our national greatness. Since taking office, my Administration has sought to restore the obligation of loyalty and allegiance that this Nation's Government owes to its workers. In all economic decisions, we believe in our sovereign obligation to defend and protect our country's workforce, and to seek its economic interests above that of any other country. America's workers pay our taxes, support our values, serve in our military, raise our children, protect our Constitution, and build our communities. They deserve, in return, the unwavering fidelity of their Government.

Guided by this obligation, my Administration has taken historic action to advance prosperity for the American worker: cutting their taxes, eliminating regulations that threaten their jobs, unleashing American energy that powers their lives, restoring American manufacturing, and ending the transfer of wealth out of our country through disastrous trade deals that gutted our industries and our national strength. The result of our pro-America economic policies have been extraordinary: currently, in America, there are a record 162 million people working; initial claims for jobless benefits are at their lowest in half a century; and the unemployment rate of 3.9 percent is historically low.

We have also taken historic action to defend the American worker by upholding and enforcing the immigration laws enacted for their protection—and by seeking to reform our immigration system so that it protects the jobs, wages, and livelihoods of our Nation's workers. Further, as we honor the work of all those in our labor force, we are especially mindful of the dignity gained from a hard day's work. Thousands of Americans have found a renewed sense of purpose in our resurgent economy. The dedication, resolve, and pride of the American worker are the reason our Nation has achieved prosperity that was once thought unattainable.

My Administration is focused on investing in America's workers and ensuring all Americans are on a path to good paying jobs. In July, I signed an Executive Order establishing the President's National Council for the American Worker and the American Workforce Policy Advisory Board, harnessing the expertise of leaders in business and education to develop a holistic, national workforce strategy to promote access to affordable, relevant education and job training opportunities. I have called on companies nationwide to sign our Pledge to America's Workers and commit to investing in their current and future workforce by expanding education and reskilling programs. Already, many companies have answered that call, pledging to train and retrain more than 4.2 million American students and workers for new career opportunities across the country. Earlier this summer, I signed into law a reauthorization of the Carl D. Perkins Career and Technical Education Act to provide students and workers with the skills necessary to succeed in a 21st century economy. I have also called for reforming the Federal Work-Study program, so that more Federal dollars go toward helping students—especially lower-income students—have more meaningful workplace experiences. And I have proposed to allow students to use Pell Grant funding to pay for cutting-edge, short-term programs that lead to quick and efficient transitions into the workforce.

We also recognize and honor the proud and historic role of our Nation's labor unions in advocating for the interests of the American worker and wage-earner—and we have kept our promise to always keep the White House door open to members and leaders of our country's labor organizations.

Further, as promised, I am renegotiating trade agreements to obtain fairer terms for American workers, farmers, ranchers, and businesses. For the past year, I have been negotiating with Canada and Mexico to fix the North American Free Trade Agreement. Earlier this week, I announced that my Administration has secured a preliminary deal between the United States and Mexico that modernizes and rebalances trade between our two countries in a way that greatly benefits American manufacturing, agriculture, services, and other sectors. I have also notified the Congress of my intent to sign a trade agreement with Mexico—and Canada, if it is willing. The deal I intend to sign will help create more reciprocal trade that grows our economy. It will also support high-paying jobs for American workers and protect the intellectual property of our Nation's businesses and workers. In addition to these improvements in our United States-Mexico trade relationship, we have also agreed with the European Commission to work toward achieving zero tariffs, increasing United States exports, and addressing unfair trade practices. And we secured key amendments to the trade agreement with South Korea that will strengthen the manufacturing sector of the economy, generating increased job opportunities for American workers. We are also protecting our economy from unfair trade practices that threaten our innovation and technology.

The dedication, resolve, and pride of the American worker built the greatest country in the history of the world—the envy of nations and the pride of countless millions—and now, we are bringing to life the next great chapter in the history of this magnificent Republic.

NOW, THEREFORE, I, DONALD J. TRUMP, President of the United States of America, by virtue of the authority vested in me by the Constitution and the laws of the United States, do hereby proclaim September 3, 2018, as Labor Day. I call upon all public officials and people of the United States to observe this day with appropriate programs, ceremonies, and activities that honor the contributions and resilience of working Americans.

IN WITNESS WHEREOF, I have hereunto set my hand this thirty-first day of August, in the year of our Lord two thousand eighteen, and of the Independence of the United States of America the two hundred and forty-third.

[FR Doc. 2018-19513

Filed 9-5-18; 11:15 am]

Billing code 3295-F8-P